DEPARTMENT OF TRANSPORTATION

Federal Railroad Administration

[Docket No. FRA-2020-0027-N-16]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before September 21, 2020.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Safety Appliance Standards Guidance Checklist Forms.

OMB Control Number: 2130-0565.

Abstract: Title 49 Code of Federal Regulations (CFR) part 231, Railroad Safety Appliance Standards, was supplemented and expanded in 2013 to include the industry standard established by the Association of American Railroads (AAR), Standard 2044 or S-2044, which prescribed safety appliance arrangements for 11 new types of cars. As a result of the inclusion, FRA developed Forms FRA F6180.161(a)-(k) as guidance checklist forms to facilitate railroad, rail car owner, and rail equipment manufacturer compliance with S-2044 and 49 CFR part 231.

AAR has since updated S-2044 to include seven new types of cars. In response, FRA is proposing adding seven new forms, Forms FRA F6180.161(l)-(r), to the safety appliance standards guidance checklists to cover these new types of cars.

Additionally, FRA is updating the existing 11 forms to reflect editorial changes that were made to S-2044.

Type of Request: Revision of a currently approved collection.

Affected Public: Businesses.

Form(s): 11 forms (FRA F6180.161(a)-(k)), plus seven new forms (FRA F 6180.161(l)-(r)).

Respondent Universe: Car manufacturers/state inspectors.

Frequency of Submission: On occasion.

Reporting Burden:

CFR section | Respondent universe | Total annual responses | Average time per responses (minutes) | Total annual burden hours | Total cost equivalent ¹
Form FRA F 6180.161a | Car manufacturers/State Inspectors | 20 forms | 60 | 20 | $1,224
Form FRA F 6180.161b | Car manufacturers/State Inspectors | 7 forms | 60 | 7 | 428
Form FRA F 6180.161c | Car manufacturers/State Inspectors | 15 forms | 60 | 15 | 918
Form FRA F 6180.161d | Car manufacturers/State Inspectors | 15 forms | 60 | 15 | 918
Form FRA F 6180.161e | Car manufacturers/State Inspectors | 15 forms | 60 | 15 | 918
Form FRA F 6180.161f | Car manufacturers/State Inspectors | 10 forms | 60 | 10 | 612
Form FRA F 6180.161g | Car manufacturers/State Inspectors | 3 forms | 60 | 3 | 184
Form FRA F 6180.161h | Car manufacturers/State Inspectors | 3 forms | 60 | 3 | 184
Form FRA F 6180.161i | Car manufacturers/State Inspectors | 20 forms | 60 | 20 | 1,224
Form FRA F 6180.161j | Car manufacturers/State Inspectors | 3 forms | 60 | 3 | 184
Form FRA F 6180.161k | Car manufacturers/State Inspectors | 10 forms | 60 | 10 | 612
Form FRA F 6180.161l (new form) | Car manufacturers/State Inspectors | 3 forms | 60 | 3 | 184
Form FRA F 6180.161m (new form) | Car manufacturers/State Inspectors | 3 forms | 60 | 3 | 184
Form FRA F 6180.161n (new form) | Car manufacturers/State Inspectors | 3 forms | 60 | 3 | 184
Form FRA F 6180.161o (new form) | Car manufacturers/State Inspectors | 3 forms | 60 | 3 | 184
Form FRA F 6180.161p (new form) | Car manufacturers/State Inspectors | 3 forms | 60 | 3 | 184
Form FRA F 6180.161q (new form) | Car manufacturers/State Inspectors | 3 forms | 60 | 3 | 184
Form FRA F 6180.161r (new form) | Car manufacturers/State Inspectors | 3 forms | 60 | 3 | 184
Total | N/A | 142 responses | N/A | 142 | 8,694
¹ The hourly wage rate to calculate the dollar cost equivalent for customers and state employees amounts to $61.20 per hour, which includes an hourly wage rate of $42.84 plus an hourly benefit of $18.34. FRA obtained this information from the Department of Labor, Bureau of Labor Statistics (BLS), Occupational Employment Statistics (OES) 11-3011, classified within NAICS 999200, State Government—excluding schools and hospitals. See https://www.bls.gov/oes/current/naics4_999200.htm.

Total Estimated Annual Responses: 142.

Total Estimated Annual Burden: 142 hours.

Total Estimated Annual Burden Hour Dollar Cost Equivalent: $8,694.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Deputy Chief Counsel.

[FR Doc. 2020-15839 Filed 7-21-20; 8:45 am]

BILLING CODE 4910-06-P